DEPARTMENT OF ENERGY

Federal Energy Regulatory Commission

[Project No. 12574-002]

Santiam Water Control District; Notice of Application Accepted for Filing and Soliciting Motions To Intervene, Protests, Scoping Comments, and Waiving Pre-Filing Consultation

February 7, 2008.

Take notice that the following hydroelectric application has been filed with the Commission and is available for public inspection.

a. Type of Application: Small Hydro Exemption from Licensing.

b. Project No.: P-12574-002.

c. Date Filed: June 18, 2007, and supplemented on July 18, 2007, pursuant to Order Denying Rehearing (119 FERC ¶ 61,159).

d. Applicant: Santiam Water Control District.

e. Name of Project: Stayton Hydroelectric Project.

f. Location: On the Stayton Ditch near the Town of Stayton, Marion County, Oregon. The project would not occupy United States land.

g. Filed Pursuant to: Public Utilities Regulatory Policies Act of 1978, 16 U.S.C. 2705, 2708.

h. Applicant Contact: Larry Trosi, Manager, Santiam Water Control District, 284 East Water Street, Stayton, OR 97383, (503) 769-2669.

i. FERC Contact: Tom Dean, (202) 502-6041.

j. Deadline for filing motions to intervene, protests, and scoping comments: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, and scoping comments may be filed electronically via the Internet in lieu of paper. The Commission strongly encourages electronic filings. See 18 CFR 385.2001(a)(1)(iii) and the instructions on the Commission's Web site (http://www.ferc.gov) under the “eFiling” link.

k. This application has been accepted for filing but is not ready for environmental analysis at this time.

l. Santiam Water Control District proposes to restore operation to the Stayton Project which was operated by Pacific Power until 1992. As proposed, the Stayton Project would consist of: (1) The existing power canal headgate structure and fish ladder, and the fish screen and 28-inch-diameter, 600-foot-long juvenile fish bypass return pipe located near the upstream end of Stayton Ditch; (2) the 0.5-mile-long Stayton Ditch; (3) the existing 24-foot-long by 12-foot-high intake structure equipped with 24.6-foot-long by 12-foot-high and 3-inch bar spacing trashracks located just upstream of the powerhouse; (4) the existing 40-foot-long V-type spillway weir and integral powerhouse containing a single 600-kilowatt generating unit; (5) the existing 24-foot-long by 12-foot-high outlet structure located just downstream of the powerhouse; (6) the existing 0.5-mile-long tailrace channel and tailrace fish barrier; (7) the existing 100-foot-long, 2,400-kilovolt transmission line; and (8) appurtenant facilities. The project would have an average annual generation of 4,320 megawatt-hours.

Additional project facilities may include the existing: (1) Spill dam and fish ladder located on the North Channel of the Santiam River just upstream of the power canal headgate structure; and (2) the berm habitat channel located between the powerhouse and tailrace fish barrier.

m. Pre-filing Consultation: The tendering notice issued on August 7, 2007 stated our intent to use the consultation that has occurred on this project for the previous conduit exemption application supplemented with National Environmental Policy Act scoping as a means to conduct further consultation with resource agencies and interested entities. Therefore, we noted our intent to waive pre-filing consultation sections 4.38(a)-(g) which requires, among other things, holding a joint meeting and distributing and consulting on a draft exemption application.

In letters filed on August 10 and 17, 2007, the U.S. Department of the Interior and Oregon Water Resources Department, respectively, noted numerous omissions in the exemption application that were identified in 2005 but were not addressed, and recommended additional consultation to assist in developing a complete exemption application. Since we will be conducting scoping, additional consultation will be afforded. Therefore, we are waiving sections 4.38(a)-(g) of the pre-filing consultation regulations.

n. Scoping.

Commission staff are soliciting comments, recommendations, and information, on the Scoping Document (SD) issued on February 7, 2008. Copies of the application and SD outlining the subject areas to be addressed in the EA were distributed to the parties on the Commission's mailing list and the applicant's distribution list. Copies of the SD may be viewed on the Web at http://www.ferc.gov using the “eLibrary” link. Enter the docket number excluding the last three digits in the docket number field to access the document. For assistance, call 1-866-208-3676 or for TTY, (202) 502-8659. A copy of the application is also available for inspection and reproduction at the address in item h above. You may also register online at http://www.ferc.gov/docs-filing/esubscription.asp to be notified via e-mail of new filings and issuances related to this or other pending projects. For assistance, contact FERC Online Support.

o. Commission staff intend to prepare a single Environmental Assessment (EA) for the Stayton Project in accordance with the National Environmental Policy Act. The EA will consider both site-specific and cumulative environmental impacts and reasonable alternatives to the proposed action.

p. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. E8-2723 Filed 2-13-08; 8:45 am]

BILLING CODE 6717-01-P